DEPARTMENT OF AGRICULTURE

Forest Service

Klamath National Forest; California; Elk Creek Watershed Project

AGENCY: Forest Service, USDA.

ACTION: Withdrawal of Notice of Intent to Prepare an Environmental Impact Statement.

SUMMARY: The Klamath National Forest is withdrawing the Notice of Intent (NOI) to prepare an Environmental Impact Statement for the Elk Creek Watershed Project. The original NOI was published in the Federal Register on October 2, 2017.

The project is being canceled and will be combined with a new project for which an Environmental Assessment will be prepared.

FOR FURTHER INFORMATION CONTACT: Questions concerning this notice and requests to be added to the project mailing list should be directed to Benjamin Daly, Happy Camp/Oak Knoll Ranger District, via mail at 63822 State Highway 96, P.O. Box 377, Happy Camp, CA 96039; via telephone at (530) 493-1734; or via email at bdaly@fs.fed.us.

Individuals who have previously submitted comments on this project will remain on the project mailing list and do not need to contact the Forest.

Dated: February 19, 2019.
Allen Rowley,
Acting Associate Deputy Chief, National Forest System.

[FR Doc. 2019-03358 Filed 2-26-19; 8:45 am]

BILLING CODE 3411-15-P